DEPARTMENT OF COMMERCE

Foreign-Trade Zones Board

[B-65-2018]

Foreign-Trade Zone (FTZ) 78—Nashville, Tennessee; Notification of Proposed Production Activity; Calsonic Kansei North America; (Automotive Parts); Shelbyville and Lewisburg, Tennessee

Calsonic Kansei North America (CKNA) submitted a notification of proposed production activity to the FTZ Board for its facilities in Shelbyville and Lewisburg, Tennessee. The notification conforming to the requirements of the regulations of the FTZ Board (15 CFR 400.22) was received on October 23, 2018.

The applicant indicates that it will be submitting a separate application for FTZ designation at the CKNA facilities under FTZ 78. The facilities will be used to produce a variety of automotive parts and subassemblies for use in the automotive industry. Pursuant to 15 CFR 400.14(b), FTZ activity would be limited to the specific foreign-status materials and components and specific finished products described in the submitted notification (as described below) and subsequently authorized by the FTZ Board.

Production under FTZ procedures could exempt CKNA from customs duty payments on the foreign-status components used in export production. On its domestic sales, for the foreign-status materials/components noted below, CKNA would be able to choose the duty rates during customs entry procedures that apply to: Safety, warning, and identification labels; glove box dampers; rubber grommets, mounts and seals; air filters; steel hex screws; polypropylene+talc plastic fuse covers; steel brackets; air vents; motor fan housings; air conditioner (a/c) blower fans; a/c evaporators with seals; a/c heater cores with seals; catalytic converters; evaporator expansion valves; electronic body control modules; plastic switch retaining brackets; airbag electronic control units; bumper brackets; center console boxes; plastic switch brackets; plastic covers; cover instruments; air duct center vents; dashboard speaker covers; cup holders; plastic lids; hinge plastic covers; console removable liners; air filter covers; windshield defrost ducts; dashboard pads; instrument panels; plastic center console pockets; motor fan splash guards; plastic radiator mount supports; radiator tank reserves; center console trays; air vents; plastic air intake doors; mechanical links and levers for intake doors; radiator with seals; steel mufflers end plates; steel exhaust tubes; steering column covers; steering members; radiator caps; air intake ducts; transmission oil coolers with seals; instrument cluster control switches; and, instrument cluster finishers (duty rate ranges from duty-free to 6%). CKNA would be able to avoid duty on foreign-status components which become scrap/waste. Customs duties also could possibly be deferred or reduced on foreign-status production equipment.

The components and materials sourced from abroad include: Polypropylene+talc; blank labels; aluminum condensor seals; rubber radiator seals; vibration control rubber bumpers, mounting, and stoppers; steel flanges; zinc plated screw-taps; zinc plated bolts; steel screws; steel clips; steel brackets; flux cored wires; steel tubes; a/c blower fans; aluminum fan inserts; a/c blower fans with motors; air conditioner units; a/c amplifiers; connector liquid-tanks; heater cores with seals; evaporators; aluminum condensor pipe flanges; aluminum condensor header plates; condensor aluminum pipes; air filters; catalytic converters; steel catalytic converter housings; injection molds; muffler valves; evaporator expansion valves; electric fan motors; warning buzzers and speakers; radio units; antenna digital control modules; smart keyless antennae; air bag cut off indicators; capacitor-chips; resistors; printed circuit boards; instrument cluster switches; battery charging status warning indicators; audio control switches; manual a/c control units; automatic a/c control units; manual a/c controls; vehicle area network bridge controls; diodes; electronic frequency crystal-quartz; a/c controllers; body control module unit circuits; advanced driver assistance systems; electronic control unit occupant detection systems; integrated circuit-central processing units; airbag occupant electronic control units; sensors and diagnosis air bag service kits; air bag unit sensors; steering wire harnesses; a/c unit insulators; rear console finishers; instrument panel finishers; lid-fuse blocks; plastic instrument panel covers; door vents; a/c slide doors; steel radiator caps; aluminum radiator header plates; aluminum radiator core reinforcements; radiator with transmission oil coolers; aluminum radiator tubes; steel inlets and outlet diffuser exhaust tubes; flanges; steel insulators; steel exhaust pipes; aluminum condenser adapters; polypropulene+talc center duct adapters; steel boss oxygen exhaust manifolds; steel exhaust cap convertors; polypropulene+talc front cases; plastic air conditioner unit clips; stainless steel motor fan clips; zinc plated steel radiator support mounting collars; body control module connectors; ignition switch covers; connector covers; low density polyethylene duct aspirators; fan control modules; urethane foam grommet heater pipes; polyacetal hinge pins; nylon antenna holders; acrylonitrile ethylene styrene glove box lamp housings; automatic transmission controls; exhaust manifold steel joints; polycarbonate/acrylonitrile butadiene styrene and polyvinyl chloride instrument cluster skin lids; glove box lids; a/c motor/actuators; polypropulene+talc connector covers; acrylonitrile butadiene styrene switch covers; instrument clusters; polycarbonate/acrylonitrile butadiene styrene dashboard finishers; acrylonitrile butadiene styrene + polyethylene furanoate +polyvinyl chloride console panel covers; thermistor-type power temperature coefficient circuit breakers; instrument cluster pointer supports; a/c unit soft vinyl drain tubes; transmission oil cooler adapters; transmission oil coolers; intake sensor with clips; ambient in-car sensors; sun sensors; and, electronic a/c fan controls (duty rate ranges from duty-free to 7. The request indicates that certain materials/components are subject to special duties under Section 232 of the Trade Expansion Act of 1962 (Section 232) and Section 301 of the Trade Act of 1974 (Section 301), depending on the country of origin. The applicable Section 232 and Section 301 decisions require subject merchandise to be admitted to FTZs in privileged foreign status (19 CFR 146.41).

Public comment is invited from interested parties. Submissions shall be addressed to the Board's Executive Secretary at the address below. The closing period for their receipt is December 10, 2018.

A copy of the notification will be available for public inspection at the Office of the Executive Secretary, Foreign-Trade Zones Board, Room 21013, U.S. Department of Commerce, 1401 Constitution Avenue NW, Washington, DC 20230-0002, and in the “Reading Room” section of the Board's website, which is accessible via www.trade.gov/ftz.

For further information, contact Christopher Wedderburn at Chris.Wedderburn@trade.gov or (202) 482-1963.

Dated: October 25, 2018.
Andrew McGilvray,
Executive Secretary.

[FR Doc. 2018-23801 Filed 10-30-18; 8:45 am]

BILLING CODE 3510-DS-P